DEPARTMENT OF ENERGY

Federal Energy Regulatory Commission

[Docket No. RP04-249-000]

AES Ocean Express, LLC, Complainant v. Florida Gas Transmission Company, Respondent; Notice of Complaint and Request for Fast Track Processing

April 6, 2004.

Take notice that on April 5, 2004, AES Ocean Express, LLC (Complainant) submitted a complaint against the Florida Gas Transmission Company (Respondent). The Complainant asserts that for over two years it has attempted to establish an agreement that would allow it to interconnect its pipeline facilities with those of the Respondent in Broward County, Florida. The Complainant alleges that the Respondent has violated Commission policy by conditioning any interconnection agreement with the Complainant on unjust and unreasonable terms and conditions. The Complainant requests that the Commission direct the Respondent to establish an interconnection that will enable the Complainant to make deliveries at Broward County, Florida, on terms that are consistent with the Commission's interconnection policy.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: April 15, 2004.

Linda Mitry,
Acting Secretary.

[FR Doc. E4-803 Filed 4-12-04; 8:45 am]

BILLING CODE 6717-01-P